DEPARTMENT OF LABOR

Employment and Training Administration

[TA-W-51,829]

Ingersoll International A.K.A. Ingersoll Milling Machine Rockford, IL; Notice of Termination of Investigation

Pursuant to section 221 of the Trade Act of 1974, an investigation was initiated on May 20, 2003, in response to a petition filed on behalf of workers at Ingersoll International, a.k.a Ingersoll Milling Machine, Rockford, Illinois.

The petitioning group of workers filed an existing petition on May 14, 2003 (TA-W-51,762) that is the subject of an ongoing investigation for which a determination has not yet been issued. Further investigation is this case (TA-W-51,829) would thus be duplicated and serves no purpose; therefore the investigation under this petition has been terminated.

Signed in Washington, DC this 4th day of June 2003.
Elliott S. Kushner,
Certifying Officer, Division of Trade Adjustment Assistance.

[FR Doc. 03-15487 Filed 6-18-03; 8:45 am]

BILLING CODE 4510-30-P